DEPARTMENT OF DEFENSE

Department of the Army, Corps of Engineers

Scoping Period Extension for Environmental Impact Statement for Implementing Test Releases From Fort Peck Dam, Montana

AGENCY: Department of the Army, U.S. Army Corps of Engineers, DoD.

ACTION: Notice.

SUMMARY: The U.S. Army Corps of Engineers (USACE), Omaha District, is extending the scoping period through March 26, 2019. The scoping period was originally scheduled to end on March 11, 2019.

ADDRESSES: Scoping comments can be emailed to: cenwo-planning@usace.army.mil or can also be mailed to: U.S. Army Corps of Engineers, Omaha District, ATTN: CENWO-PM-AC-Fort Peck EIS, 1616 Capitol Avenue, Omaha, NE 68102.

FOR FURTHER INFORMATION CONTACT: Tiffany Vanosdall, U.S. Army Corps of Engineers at (402) 995-2695 or by email at tiffany.k.vanosdall@usace.army.mil.

SUPPLEMENTARY INFORMATION: Project information is available on the Missouri River Recovery Program website at: www.moriverrecovery.org.

Please note that before including your address, phone number, email address, or any other personal identifying information in your comment, you should be aware that your entire comment—including your personal identifying information—may be made available to the public at any time. While you can request us to withhold your personal identifying information from public review, we cannot guarantee that we will be able to do so.

Brenda S. Bowen,
Army Federal Register Liaison Officer.

[FR Doc. 2019-04619 Filed 3-12-19; 8:45 am]

BILLING CODE 3720-58-P